DEPARTMENT OF COMMERCE

International Trade Administration

Initiation of Antidumping and Countervailing Duty Administrative Reviews

AGENCY: Import Administration, International Trade Administration, Department of Commerce.

SUMMARY: The Department of Commerce (“the Department”) has received requests to conduct administrative reviews of various antidumping duty orders and findings with October anniversary dates. In accordance with the Department's regulations, we are initiating those administrative reviews.

EFFECTIVE DATE: November 25, 2009.

FOR FURTHER INFORMATION CONTACT: Sheila E. Forbes, Office of AD/CVD Operations, Customs Unit, Import Administration, International Trade Administration, U.S. Department of Commerce, 14th Street and Constitution Avenue, NW, Washington, DC 20230, telephone: (202) 482-4697.

SUPPLEMENTARY INFORMATION:

Background

The Department has received timely requests, in accordance with 19 CFR 351.213(b), for administrative reviews of various antidumping duty orders and findings with October anniversary dates.

Notice of No Sales

Under 19 CFR 351.213(d)(3), the Department may rescind a review where there are no exports, sales, or entries of subject merchandise during the respective period of review (“POR”) listed below. If a producer or exporter named in this notice of initiation had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW, Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's website at http://www.trade.gov/ia on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's website at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

For exporters and producers who submit a separate-rate status application or certification and subsequently are selected as mandatory respondents, these exporters and producers will no longer be eligible for separate-rate status unless they respond to all parts of the questionnaire as mandatory respondents.

INITIATION OF REVIEWS:

In accordance with 19 CFR 351.221(c)(1)(i), we are initiating administrative reviews of the following antidumping duty orders and findings. We intend to issue the final results of these reviews not later than October 31, 2010.

Antidumping Duty Proceedings | Period to be Reviewed
THE PEOPLE'S REPUBLIC OF CHINA: Certain Helical Spring Lock Washers¹
A-570-822 | 10/1/08 - 9/30/09
Hangzhou Spring Washer Co., Ltd.
THE PEOPLE'S REPUBLIC OF CHINA: Steel Wire Garment Hangers²
A-570-918 | 3/25/08 - 9/30/09
Acrowell International Logistics
Acx Logistics (China) Ltd.
Agility Logistics (Shanghai) Ltd.
Ahlers Vina Logistics
Alcon Express Corp.
Alpi Trading Service Co., Ltd.
Amerasian Shipping Logistics Corp.
Anc Service Co., Ltd.
Angang Clothes Rack Manufacture Co.
Anhui Whywin International Co., Ltd.
Apex Holding Group Limited
Apex Maritime Co. Ltd.
Apl Logistics China, Ltd.
Arturo Huizar Velazquez
Ate Logistics Co., Ltd.
Beijing Kang Jie Kong Cargo Agent Co., Ltd.
Biz Sources Inc. (Biz Sources PTY Ltd.)
Brilliant Globe Logistics Inc.
Canada Cleaning Supply Corp.
Centurion Logistics Services Ltd.
China Coast Freight Co., Ltd.
China Container Line (Shanghai) Ltd.
China International Freight Co., Ltd.
China Ocean Shipping Agency (Ningbo)
City Ocean Logistics Co., Ltd.
Cixi K&J International Co., Ltd.
Cohesion Freight (HK) Ltd.
Cohesion Freight Agency Ltd. (Shanghai)
Cong Ty Duoc Thao
Cong Ty Trach Nhiem (CTN Co., Ltd.)
De Well Container Shipping Corp.
Diep Son Hangers One Member Co., Ltd.
Direct Service Inc.
Distribution Rsjo Inc.
Dma Logistics Inc.
Dong Nam A Co., Ltd.
Dragon Trading Shipping Co., Ltd.
Dynamic Network Container Line Ltd.
Evergreen Logistics Vietnam Co., Ltd.
Expeditors China
Far Go Express Company Limited
Fastic Transportation Co., Ltd.
Focus Shipping Corp.
For You Beautiful Industrial Co., Ltd.
Fortune Freight International Co., Ltd.
Ge Li Commerce Co., Ltd.
General Merchandise Consolidators, Inc.
Giant Choice Co., Ltd.
Gle Logistics Co., Ltd.
Globe Express Services S.a.r.L. Co., Ltd.
Goldever International Logistics Co.
Good Wonder Limited
Guangdong Provincial Taoyue Mfg. Co., Ltd.
Guangxi Shengfeng Import and Export Co., Ltd.
Guangzhou Yanglei-Packing Co., Ltd.
Guilin Yc Enterprise Co., Ltd.
Hangzhou Rico Homeware and Apparel Ltd.
Hanhen Shipping (China) Co., Ltd.
Hanjin (Shenzhen) Co., Ltd.
Hanjin Logistics (Shanghai) Co., Ltd.
Hcmc General Import and Export Investment Joint Stock Company (IMexico)
Hecny Shipping Limited
Hippo Logistics Co., Ltd.
HongKong Wells Limited
Honour Lane Logistics Co., Ltd.
Honour Lane Shipping Limited
Huada Fashion Enterprise, Inc.
Huguang Huojia Factory
Intercontinental Shipping Co., Ltd.
Jiangmen Hongjun Hardware & Elect
Jiangsu Globe Logistics Limited Co.
Jiangyin Hongji Metal Products Co., Ltd.
Jianxing Boyi Medical Device Co., Ltd.
Jr Metal Products Shanghai
Ju Fu Co., Ltd.
Kaiping Youming Hardware & Plastic Products Co., Ltd.
KB Steel
Kingly Industry (Canada) Corp.
Korea Laundry Industry Co., Ltd.
Kuehne & Nagel Ltd.
Kyung Dong Industrial Co., Ltd.
Laidlaw Company LLC
Laidlaw Metal Products Co., Ltd.
Laidlaw Shanghai
Lights Out Machinery Co., Ltd.
Limpiaduria Zaragoza Huizar
Link & Link Shipping Ltd.
Maple Hangers Inc.
Mico Mit Co., Ltd.
Moc Viet Manufacture Co., Ltd.
Multi-Sander Tech. Co., Ltd.
N2j Co., Ltd.
Nanchang Tuhai Industry Co., Ltd.
Ningbo Dasheng Hanger Ind. Co., Ltd.
Ningbo Eidz Holding Ltd.
Ningbo Jude Trading Co., Ltd.
Ningbo Peacebird Import & Export Co., Ltd.
Ningbo Yifan International Forwarding Agency Co., Ltd.
NV Hanger Co., Ltd.
Ocean Star International Logistics Co., Ltd.
Odyssey International (China) Ltd.
Oec Freight Worldwide Co., Ltd.
Orient Express Container Co., Ltd.
Orient Star Shipping Pte.
Orient Star Transport International Ltd.
Oriental Dragon Co., Ltd.
Oriental Logistics Group Ltd.
P T Transportation Ltd.
Pacific Star Express Corporation
Pacific Star International Logistics (China) Co., Ltd.
Phoenix International Freight Services Ltd.
Pingye Foreign Transportation Co., Ltd.
Post-Pop Art Co., Ltd.
Price Group Ltd.
Prolim De Baja California
Pu Jiang County Command Metal Products Co., Ltd.
Pudong Trans USA, Inc.
Quyky-yanglei International Co., Ltd.
RDD Freight International Inc.
Rich Shipping Company Limited
Rising Trade Inc.
Royal Cargo Combined Logistics, Inc.
Royal McGoun Inc.
Schenker China Ltd.
Sea Bright International Industrial
Seamaster Logistics Inc.
Shanghai Air Sea Transport Inc.
Shanghai Channel International Logistics
Shanghai Fanyuan Freight Forwarding
Shanghai Garment Group Import/Export Corp.
Shanghai Jianhai International Trade Co., Ltd.
Shanghai Light Industry and Textile Group Co., Ltd.
Shanghai T.H.I Transport Co., Ltd.
Shanghai Wells Hanger Co., Ltd.
Shangyu Baoxiang Metal Manufactured Co., Ltd.
Shaoguang International Trade Co.
Shaoxing Andrew Metal Manufactured Co., Ltd.
Shaoxing Dingli Metal Clotheshorse Co., Ltd.
Shaoxing Gangyuan Metal Manufactured Co., Ltd.
Shaoxing Guochao Metallic Products Co., Ltd.
Shaoxing Leiluo Metal Manufactured
Shaoxing Liangbao Metal Manufactured Co., Ltd.
Shaoxing Meideli Metal Hanger Co., Ltd.
Shaoxing Shunji Metal Clotheshorse Co., Ltd.
Shaoxing Tongzhou Metal Manufactured Co., Ltd.
Shaoxing Zhongbao Metal Manufactured Co., Ltd.
Shenzhen Center Link International
Shenzhen Pacific-Net Logistics Inc.
Shipping & Distribution Ltd.
Sino Connections Logistics Inc.
Sinobo International Logistics Co., Ltd.
Sinotrans Zhejiang Co., Ltd.
Sirius Global Logistics Co., Ltd.
Smart Concept Trading Limited
Star Glory Ltd.
Summit Logistics International Inc.
Sun Vn Transport Corp. (Sunvn Transport Corporation)
Tay Ruey Enterprise Co.
Thanh Hieu Manufacturing Trading Co., Ltd.
The Houjie Town Yongxiang/Hardware Processing Plant
Tianjin Hongtong Metal Manufacture Co., Ltd.
Top Harvest Metal Co. Ltd.
Top Shipping Logistics Co., Ltd.
Topocean Consolidation Service (China) Ltd.
Topocean Vietnam
Translink Shipping Inc.
Transworld Transportation Co., Ltd.
Twt-Transworld Transportation Co., Ltd.
U.S. United Logistics Inc.
Unique Logistics International (HK) Ltd.
Unitex International Forwarding (HK) Ltd.
Ups Scs Ltd.
Vantage Logistics Corporation
Viet Anh Import-Export Joint Stock Company
Vietnam Hangers Joint Stock Company
Wiexin Cargo Services Co., Ltd.
Whale Logistics Company Ltd.
Winwell Industrial Limited
Wuhu Rising International Trade Co., Ltd.
Xin Chang Heng Xin Yi Jia Factory
Yiwu Ao-Si Metal Products Co., Ltd.
Zhejiang Hailiang Co., Ltd.
Zhejiang King Merchandise Industrial
Zhejiang Lucky Cloud Hanger Co., Ltd.
Zhejiang Peace Industry and Trade Inc.
Zownzi Hardware Hanger Fty Ltd.
Zynpak Packaging Products Inc.
Countervailing Duty Proceedings
None.
Suspension Agreements
None.
¹ If the above-named company does not qualify for a separate rate, all other exporters of Certain Helical Spring Lock Washers from the People's Republic of China (“PRC”) who have not qualified for a separate rate are deemed to be covered by this review as part of the single PRC entity of which the named exporter is a part.
² If one of the above-named companies does not qualify for a separate rate, all other exporters of Steel Wire Garment Hangers from the PRC who have not qualified for a separate rate are deemed to be covered by this review as part of the single PRC entity of which the named exporter is a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable for the POR.

Interested parties must submit applications for disclosure under APO in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed in 19 CFR 351.103(d)).

These initiations and this notice are in accordance with section 751(a) of the Tariff Act of 1930, as amended (19 U.S.C. 1675(a)), and 19 CFR 351.221(c)(1)(i).

Dated: November 19, 2009.
John M. Andersen,
Acting Deputy Assistant Secretary for Antidumping and Countervailing Duty Operations.

[FR Doc. E9-28271 Filed 11-24-09; 8:45 am]

BILLING CODE 3510-DS-S